DEPARTMENT OF AGRICULTURE

Food and Nutrition Service

Agency Information Collection Activities, Proposed Collection: Request for Comments on How Have SNAP State Agencies Shifted Operations in the Aftermath of COVID-19? (SNAP COVID Study)

AGENCY: Food and Nutrition Service (FNS), USDA.

ACTION: Notice.

SUMMARY: In accordance with the Paperwork Reduction Act of 1995, this notice invites the general public and other public agencies to comment on this proposed information collection. This is a new information collection for the contract of the study titled “How Have Supplemental Nutrition Assistance Program (SNAP) State Agencies Shifted Operations in the Aftermath of COVID-19? (SNAP COVID study)”. The purpose of the SNAP COVID study is to help FNS develop a comprehensive understanding of how SNAP agencies have adapted their operations and norms during the COVID-19 pandemic and increased their preparedness for another major disruption.

DATES: Written comments must be received on or before June 26, 2023.

ADDRESSES: Comments may be sent to Amanda Wyant, Food and Nutrition Service, U.S. Department of Agriculture, 1320 Braddock Place, 5th floor, Alexandria, VA 22314. Comments may also be submitted via email to Amanda.Wyant@usda.gov. Comments will also be accepted through the Federal eRulemaking Portal. Go to http://www.regulations.gov and follow the online instructions for submitting comments electronically.

All responses to this notice will be summarized and included in the request for Office of Management and Budget approval. All comments will be a matter of public record.

FOR FURTHER INFORMATION CONTACT: Requests for additional information or copies of this information collection should be directed to Amanda Wyant at 703-305-7537.

SUPPLEMENTARY INFORMATION: Comments are invited on: (a) whether the proposed collection of information is necessary for the proper performance of the agency's functions, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: How Have SNAP State Agencies Shifted Operations in the Aftermath of COVID-19? (SNAP COVID study).

Form Number: N/A.

OMB Number: 0584-NEW.

Expiration Date: Not yet determined.

Type of Request: New collection.

Abstract. As the cornerstone of the nation's nutrition safety net, the Supplemental Nutrition Assistance Program (SNAP) provides monthly benefits to households with low incomes to reduce food insecurity and improve health and well-being. The COVID-19 pandemic and its economic fallout created extraordinary challenges for SNAP and the broader safety net as whole. To keep processing applications and issuing benefits, SNAP agencies had to pivot sharply to adapt their core operations and deliver services primarily or entirely virtually. Drawing on both new and existing waivers and policy options in this uncharted environment required a host of complicated decisions and choices on the part of State SNAP agencies. The study titled “How Have SNAP State Agencies Shifted Operations in the Aftermath of COVID-19? (SNAP COVID study)” will provide the U.S. Department of Agriculture (USDA) Food and Nutrition Service (FNS) with a comprehensive picture of how State SNAP agencies responded to the pandemic, including their decision-making processes, experiences with program changes in the short and long terms, and how these experiences have prepared States for major disruptions in the future.

The SNAP COVID study will provide information about State SNAP agencies' experiences with the wide range and mix of operational changes made in response to the evolving pandemic. This gives FNS and State SNAP agencies an important opportunity to assess what did and did not work and why; to describe the decision-making processes that led to States' responses to date and their plans for the period after the public health emergency; to identify changes that are here to stay for the foreseeable future; and to consider the lessons learned to inform continued program improvement and increase preparedness for any future disruptions that affect service delivery.

The study will gather detailed data from all 53 State SNAP agencies via a web-based survey and will conduct case studies in five States. In each of the five site visit States, the study team will conduct interviews with State and local SNAP staff and collect individual-level application and case records and/or aggregate performance data. These data will provide insight on how key metrics such as SNAP caseload size and composition changed after the implementation of program changes. The study team will systematically collect publicly available documents through FNS and web searches to inform the development of data collection instruments for the survey and site visit interviews. The team will use these along with non-public documents (for example, State policy guidance) we will collect from States to confirm and clarify survey responses.

Affected public. Members of the public affected by the data collection include State, local, and Tribal governments from 53 State SNAP agencies. Respondent groups identified include: (1) State or territory agency directors; (2) State or territory data and IT staff; (3) State or territory operations and policy staff; (4) Local directors; (5) Local agency supervisors; (4) Local agency frontline staff.

A survey will be conducted with all 53 State SNAP agency directors and staff. Case studies will be conducted with five of the States, affecting State and local SNAP agency directors and staff.

Estimated number of respondents. The total estimated number of unique respondents for both the pretest and study data collection activities is 284, with four nonrespondents. There are 243 State level staff who will participate. This includes 53 State or territory SNAP directors; 127 State or territory SNAP policy and operations staff; 5 State or territory data staff; and 58 State or territory IT staff. There are 41 local level staff who will participate in the study: 11 local SNAP agency directors; 15 local SNAP agency supervisors, and 15 local SNAP agency frontline staff.

The State or territory SNAP agency directors include respondents from 53 U.S. States and territories (50 U.S. States, the District of Columbia, the U.S. Virgin Islands, and Guam). Each State or territory SNAP agency director may designate up to three staff to complete sections of the survey, accounting for up to an additional 159 State or territory staff participating as respondents (212 survey respondents total). This is the highest possible number of survey respondents; FNS expects fewer to participate in the survey. Prior to data collection we expect three of the State or territory SNAP agency directors will participate in the pretest.

Five States will be selected for the case study. Here is a summary of the respondents for the case study:

• 5 State SNAP agency directors (one from each of the five case study States) will participate in the case study. We expect to reach out to 9 SNAP agency directors about the case study but expect that four States will not be able to participate.

• 20 State SNAP policy and operations staff (four from each of the five States).

• 5 State SNAP data staff (one from each of the five States).

• 5 State SNAP IT staff (one from each of the five States).

• 10 local SNAP agency directors (two from each of the five States).

• 15 local SNAP agency supervisors (three from each of the five States).

• 15 local SNAP agency frontline staff (three from each of the five States).

Prior to the start of data collection, we expect that one State SNAP agency director, one State operations and policy staff person, and one local SNAP agency director will participate in the pretest.

Estimated number of responses per respondent. Across all 284 ¹ unique respondents (284 respondents and 4 non-respondents) and 2,373 annual responses, the average number of responses is 8.24. State or territory SNAP directors will respond once to a web-based survey with five modules. State or territory SNAP directors will receive an FNS State outreach email to notify them about the web survey. The contractor will then email the States a study description and invitation to complete the web survey. State or territory SNAP agency directors, SNAP operations and policy staff and SNAP IT staff who have not completed the survey will be emailed biweekly to complete the survey (for a total of five possible emails). Those who have not completed the survey in the last four weeks of data collection will receive an urgent survey reminder email every week (for a total of four possible emails). State or territory SNAP directors, SNAP operations and policy staff and SNAP IT staff will be asked to submit documents related to their COVID-19 procedures as part of the survey. If they do not submit their documents, they will be sent reminder emails (for a total of nine possible emails). Starting in Week 6 of data collection, State or territory SNAP directors will receive reminder phone calls.

¹ There are a total of 284 unique respondents estimated to participate in this study. The same 5 State SNAP directors who participate in the web survey will also participate in the case studies. We estimate that we will need to reach out to a total of 9 State SNAP directors to ask if they can participate in the study. Of these, we expect 4 State SNAP directors will be non-respondents for the case studies. The 9 State SNAP directors who will be reached out for the case studies are only counted once in the sample size totals.

Five State SNAP agencies that participated in the initial survey will be selected in collaboration with FNS for a case study. The case study will involve interviews with five State SNAP directors, 20 State SNAP operations and policy staff, 5 State SNAP data staff, 5 State SNAP IT staff, 10 local SNAP agency directors, 15 local SNAP agency supervisors, and 15 local SNAP agency frontline staff. The State or territory SNAP directors will receive an initial email from FNS notifying them about the case studies. Following that, an email will come from the research team introducing the directors to the case studies and asking them to schedule a call with the research team to discuss the case studies. State SNAP directors that do not respond to this initial email will receive a reminder email and, if needed, a reminder call to schedule a time to discuss the case studies with the research team. The State SNAP directors will then participate in an hour-long call to discuss the case study. Once the local agencies are identified in collaboration with the State, the research team will reach out to the local agencies by email to schedule their portion of the site visit.

Prior to the start of data collection, we expect that one State SNAP agency director, one State operations and policy staff person, and one local SNAP agency director will participate in the pretest.

Estimated total annual responses. 2,373

Estimated time per response. The estimated time per response varies from 0.03 hours for activities related to reading email reminders for the survey and case studies to 20 hours for state IT staff to provide administrative data. The response time will vary depending on the respondent group, as shown in the attached table, with an average estimated time of 33.53 minutes (0.56 hours).

Estimated total annual burden on respondents. The total estimated burden on respondents is 22,564.20 minutes (376.07 hours). See the table below for estimated total annual burden for each type of respondent.

BILLING CODE 3410-30-P

Tameka Owens,
Assistant Administrator, Food and Nutrition Service.

[FR Doc. 2023-08817 Filed 4-25-23; 8:45 am]

BILLING CODE 3410-30-C